NUCLEAR REGULATORY COMMISSION

[Docket No. 52-020]

AREVA NP, Inc.; Acceptance for Docketing of an Application for Standard Design Certification of the U.S. EPR

By letter dated December 11, 2007, as supplemented by letters dated February 7, 2008 and February 20, 2008, AREVA NP Inc. (AREVA) submitted an application to the Nuclear Regulatory Commission (NRC, the Commission) for a standard design certification of the U.S. Evolutionary Power Reactor (EPR). The application was submitted pursuant to section 103 of the Atomic Energy Act and Subpart B, “Standard Design Certifications,” of Title 10 of the Code of Federal Regulations (10 CFR) Part 52, “Licenses, Certifications, and Approvals for Nuclear Power Plants.” A notice of receipt and availability of this application was previously published in the Federal Register (73 FR 2286) on January 14, 2008.

The NRC staff has determined that AREVA has submitted information in accordance with 10 CFR Part 2, “Rules of Practice for Domestic Licensing Proceedings and Issuance of Orders,” and 10 CFR Part 52 and that the application is acceptable for docketing. The docket number established for this application is 52-020.

The NRC staff will perform a detailed technical review of the design certification application. Docketing of the design certification application does not preclude the NRC from requesting additional information from the applicant as the review proceeds, nor does it predict whether the Commission will grant or deny the application. The NRC staff anticipates that a notice relating to the rulemaking pursuant to 10 CFR 52.51 for design certification, including provisions for participation of the public and other parties, will be published in the future.

The U.S. EPR design is an approximately 1600 megawatt electric evolutionary pressurized water reactor (PWR). The primary system design, loop configuration, and main components design are similar to those of currently operating PWRs. The U.S. EPR contains unique design features, such as four redundant trains of emergency core cooling; Containment and Shield Building; and a core melt retention system for severe accident mitigation. The U.S. EPR application includes the entire power generation complex, except those elements and features considered site-specific.

Documents may be examined, and/or copied for a fee, at the NRC's Public Document Room (PDR), located at One White Flint North, Public File Area O1 F21, 11555 Rockville Pike (first floor), Rockville, Maryland 20852, and will be accessible electronically through the Agencywide Documents Access and Management System (ADAMS) Public Electronic Reading Room link at the NRC Web site http://www.nrc.gov/reading-rm/adams.html. Persons who do not have access to ADAMS or who encounter problems in accessing documents located in ADAMS should contact the NRC PDR Reference staff by telephone at 1-800-4209, 301-415-4737, or by e-mail to pdr@nrc.gov. The application is also available at http://www.nrc.gov/reactors/new-licensing/design-cert.html.

Dated at Rockville, Maryland this 25th day of February 2008.
For the Nuclear Regulatory Commission.
Getachew Tesfaye,
Sr. Project Manager, EPR Projects Branch, Division of New Reactor Licensing, Office of New Reactors.

[FR Doc. E8-3918 Filed 2-28-08; 8:45 am]

BILLING CODE 7590-01-P